DEPARTMENT OF THE INTERIOR

National Park Service

[NPS-NERO-22407; PPNEHART00.PPMPSPD1Y.YM0000]

Harriet Tubman National Historical Park

AGENCY: National Park Service, Interior.

ACTION: Notice of establishment.

SUMMARY: As authorized by the National Defense Authorization Act for Fiscal Year 2015, the National Park Service announces that the Secretary of the Interior (Secretary) has established, in the State of New York, Harriet Tubman National Historical Park as a unit of the National Park System.

FOR FURTHER INFORMATION CONTACT: Rose Fennell, Deputy Regional Director, National Park Service, Northeast Regional Office at (617) 223-5137.

SUPPLEMENTARY INFORMATION: Section 3036 of the National Defense Authorization Act for Fiscal Year 2015, Public Law 113-291 includes a specific provision relating to establishment of this unit of the National Park System. To establish the national historical park, the Secretary must determine that a sufficient quantity of land, or interests in land, has been acquired to constitute a manageable park unit and must publish notice of the establishment of the historical park in the Federal Register no later than 30 days after the Secretary makes a determination.

The National Park Service acquired by Bargain and Sale Deed the fee simple interests in the 0.5 acres at 47-49 Parker Street in Auburn, New York, on December 30, 2016. This property contains the historic Thompson Memorial AME Zion Church and the adjacent, two-story rectory.

On January 10, 2017, the Secretary of the Interior signed a Decision Memorandum determining that a sufficient quantity of land, or interests in land, had been acquired to constitute a manageable park unit. With the signing of this Decision Memorandum by the Secretary, the site to be known as the “Harriet Tubman National Historical Park” was established as a unit of the National Park System, effective January 10, 2017, and is subject to all laws, regulations, and policies pertaining to such units.

Dated: January 10, 2017.
Michael T. Reynolds,
Acting Director.

[FR Doc. 2017-01081 Filed 1-18-17; 8:45 am]

BILLING CODE 4312-52-P